DEPARTMENT OF TRANSPORTATION

Coast Guard

33 CFR Part 117

[CGD08-01-032]

Drawbridge Operating Regulation; Bayou Lafourche, LA

AGENCY: Coast Guard, DOT.

ACTION: Notice of temporary deviation from regulations.

SUMMARY: The Commander, Eighth Coast Guard District has issued a temporary deviation from the regulation governing the operation of the SR 1 (Leeville) vertical lift bridge across Bayou Lafourche, mile 13.3, at Leeville, Lafourche Parish, Louisiana. This deviation allows the Louisiana Department of Transportation and Development (LDOTD) to close the bridge to navigation from 8 a.m. until 5 p.m. daily from Thursday, November 8, 2001 through Wednesday, December 5, 2001. This temporary deviation is issued to allow for the cleaning and painting of the counterweight towers of the bridge.

DATES: This deviation is effective from 8 a.m. on Thursday, November 8, 2001 until 5 p.m. on Wednesday, December 5, 2001.

ADDRESSES: Unless otherwise indicated, documents referred to in this notice are available for inspection or copying at the office of the Eighth Coast Guard District, Bridge Administration Branch, Commander (obc), 501 Magazine Street, New Orleans, Louisiana, 70130-3396. The Bridge Administration Branch maintains the public docket for this temporary deviation.

FOR FURTHER INFORMATION CONTACT: David Frank, Bridge Administration Branch, telephone (504) 589-2965.

SUPPLEMENTARY INFORMATION: The SR 1 (Leeville) vertical lift span bridge across Bayou Lafourche, mile 13.3, at Leeville, Lafourche Parish, Louisiana, has a vertical clearance of 40 feet above mean high water in the closed-to-navigation position and 73 feet above mean high water in the open-to-navigation position. The containment equipment for the project will reduce the vertical clearance by two feet. Navigation on the waterway consists mainly of fishing vessels, recreation vessels and tugs with tows. LDOTD requested a temporary deviation from the normal operation of the drawbridge in order to accommodate the cleaning and painting of the bridge counterweight towers. This work is necessary for the continued safe operation of the bridge.

This deviation allows the draw of the SR 1 (Leeville) vertical lift span drawbridge across Bayou Lafourche, 13.3, to remain closed to navigation from 8 a.m. until 5 p.m. daily from Thursday, November 8, 2001 through Wednesday, December 5, 2001.

Dated: September 6, 2001.
Roy J. Casto,
Rear Admiral, U. S. Coast Guard, Commander, Eighth Coast Guard District.

[FR Doc. 01-23685 Filed 9-20-01; 8:45 am]

BILLING CODE 4910-15-U